DEPARTMENT OF TRANSPORTATION

Surface Transportation Board

[STB Finance Docket No. 35132]

Pennsylvania Northeast Regional Railroad Authority—Acquisition Exemption—in Monroe and Northampton Counties, PA

Pennsylvania Northeast Regional Railroad Authority (PNRRA), a political subdivision and non-operating Class III rail carrier, has filed a verified notice of exemption under 49 CFR 1150.41 to acquire an ownership interest in 10.6 miles of rail line from Norfolk Southern Railway Company (NSR). The line extends between milepost 2.0 (approximately old milepost 74) at Slate and milepost 12.2 (approximately old milepost 84.6),¹ in Monroe and Northampton Counties, PA.² The transaction is subject to retention of overhead trackage rights by NSR.

¹ Although the route miles to be acquired would appear to be 10.2 miles based on current mileposts, PNRRA states that investigation has confirmed that the actual mileage to be acquired is 10.6 miles, consistent with the old milepost designations.

² PNRRA owns approximately 82 miles of rail line in Lackawanna, Monroe, and Wayne Counties, PA. The lines are operated by Delaware-Lackawanna Railroad Co. pursuant to a contract with PNRRA.

PNRRA certifies that its projected annual revenues as a result of this transaction will not result in the creation of a Class II or Class I rail carrier and further certifies that its projected annual revenues will not exceed $5 million.

The transaction is expected to be consummated in phases on or after November 3, 2008.

If the notice contains false or misleading information, the exemption is void ab initio. Petitions to revoke the exemption under 49 U.S.C. 10502(d) may be filed at any time. The filing of a petition to revoke will not automatically stay the transaction. Petitions for stay must be filed no later than October 24, 2008 (at least 7 days before the exemption becomes effective).

Pursuant to the Consolidated Appropriations Act, 2008, Public Law 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

An original and 10 copies of all pleadings, referring to STB Finance Docket No. 35132, must be filed with the Surface Transportation Board, 395 E Street, SW., Washington, DC 20423-0001. In addition, one copy of each pleading must be served on Keith G. O'Brien, 2401 Pennsylvania Ave., NW., Ste. 300, Washington, DC 20037.

Board decisions and notices are available on our Web site at http://www.stb.dot.gov.

Decided: October 8, 2008.
By the Board, David M. Konschnik, Director, Office of Proceedings.
Anne K. Quinlan,
Acting Secretary.

[FR Doc. E8-24629 Filed 10-16-08; 8:45 am]

BILLING CODE 4915-01-P